DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Information for Self-Certification under FAQ 6 of the United States—European Union Safe Harbor Privacy Framework.

OMB Control Number: 0625-0239.

Form Number(s): ITA-4149.

Type of Request: Regular submission (extension of a currently approved information collection).

Burden Hours: 350.

Number of Respondents: 500.

Average Hours per Response: 20-40 minutes.

Needs and Uses: In response to the European-Union Directive on Data Protection that restricts transfers of personal information from Europe to countries whose privacy practices are not deemed “adequate,” the U.S. Department of Commerce has developed a “Safe Harbor” framework that will allow U.S. organizations to satisfy the European Directive's requirements and ensure that personal data flows to the United States are not interrupted. The Safe Harbor framework bridges the differences between the European Union (EU) and U.S. approaches to privacy protection. The complete set of Safe Harbor documents and additional guidance materials may be found at http://export.gov/safeharbor. As of December 10, 2010, 2,415 U.S. organizations have been placed on the Safe Harbor List. Organizations that have signed up to this list are deemed “adequate” under the Directive and do not have to provide further documentation to European officials. This list will be used by EU organizations to determine whether further information and contracts will be needed for a U.S. organization to receive personally identifiable information. This list is necessary to make the Safe Harbor accord operational, and was a key demand of the Europeans in agreeing that the Principles were providing “adequate” privacy protection.

Affected Public: Business or other for-profit organizations.

Frequency: Annually.

Respondent's Obligation: Voluntary.

OMB Desk Officer: Wendy Liberante, (202) 395-3647.

Copies of the above information collection proposal can be obtained by calling or writing Diana Hynek, Departmental Paperwork Clearance Officer, (202) 482-0266, Department of Commerce, Room 6616, 14th and Constitution Avenue, NW., Washington, DC 20230 (or via the Internet at dHynek@doc.gov.

Written comments and recommendations for the proposed information collection should be sent within 30 days of publication of this notice to Wendy Liberante, OMB Desk Officer, Fax number (202) 395-5167 or via the Internet at Wendy_L._Liberante@omb.eop.gov.

Dated: April 5, 2011.
Gwellnar Banks,
Management Analyst, Office of the Chief Information Officer.

[FR Doc. 2011-8492 Filed 4-8-11; 8:45 am]

BILLING CODE 3510-DR-P